ENVIRONMENTAL PROTECTION AGENCY

[EPA-HQ-OPPT-2020-0616; FRL-9173-01-OMS]

Information Collection Request Submitted to OMB for Review and Approval; Comment Request; User Fees for the Administration of the Toxic Substances Control Act (Renewal)

AGENCY: Environmental Protection Agency (EPA).

ACTION: Notice.

SUMMARY: The Environmental Protection Agency (EPA) has submitted an information collection request (ICR), User Fees for the Administration of the Toxic Substances Control Act (EPA ICR Number 2569.04, OMB Control Number 2070-0208) to the Office of Management and Budget (OMB) for review and approval in accordance with the Paperwork Reduction Act. This is a proposed extension of the ICR, which is currently approved through October 31, 2021. Public comments were previously requested via the Federal Register on March 19, 2021 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 22, 2021.

ADDRESSES: Submit your comments to EPA, referencing Docket ID No. EPA-HQ-OPPT-2020-0616, online using www.regulations.gov (our preferred method), by email to sleasman.katherine@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Marc Edmonds, Existing Chemicals Risk Management Division (7407M), Office of Pollution Prevention and Toxics, Environmental Protection Agency, 1200 Pennsylvania Ave. NW, Washington, DC 20460; telephone number: (202) 566-0758; email address: edmonds.marc@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Frank R. Lautenberg Chemical Safety for the 21st Century Act of 2016 made transformative changes to the Toxic Substances Control Act (TSCA), 15 U.S.C. 2601 et seq., including an amendment that provides EPA with the authority to collect fees to defray 25% of the costs associated with administering TSCA sections 4, 5 and 6, as well as the costs of collecting, processing, reviewing and providing access to and protecting CBI from disclosure as appropriate under TSCA section 14. Payments are required from manufacturers (defined by statute to include importers) of a chemical substance who are required to submit information to EPA under TSCA section 4: Who submit certain notices and exemption requests to EPA under TSCA section 5: Who manufacture a chemical substance that is subject to a risk evaluation under TSCA section 6(b)(4): And who process a chemical substance that is the subject of a Significant New Use Notice (SNUN) or Test Market Exemption (TME) under TSCA section 5 and are required to submit information to EPA under TSCA section 4 related to a SNUN submission. EPA is not collecting a fee for submissions of Confidential Business Information (CBI) submitted under TSCA section 14.

These fees are intended to achieve the goals articulated by Congress to provide a sustainable source of funds for EPA to fulfill its legal obligations to conduct the activities required under TSCA sections 4, 5 and 6 (such as risk-based screenings, designation of applicable substances as High- and Low-Priority, conducting risk evaluations to determine whether a chemical substance presents an unreasonable risk of injury to health or the environment, requiring testing of chemical substances and mixtures, and evaluating and reviewing manufacturing and processing notices), as well as the activities under TSCA section 14 (i.e., collecting, processing, reviewing, and providing access to and protecting information about chemical substances from disclosure as appropriate).

Form Numbers: 9600-008.

Respondents/Affected Entities: Entities identified by the following North American Industrial Classification System (NAICS) codes:

• Petroleum and Coal Products (NAICS code 324);

• Chemical Manufacturing (NAICS code 325); and

• Chemical, Petroleum and Merchant Wholesalers (NAICS code 424).

Respondent's obligation to respond: Mandatory, TSCA Section 26(b).

Estimated number of respondents: 1,348 (total).

Frequency of response: On occasion.

Total estimated burden: 598 hours (per year). Burden is defined at 5 CFR 1320.3(b).

Total estimated cost: $46,906 (per year), includes $0 annualized capital or operation & maintenance costs.

Changes in the estimates: There is an increase in the total estimated respondent burden compared with the ICR currently approved by OMB due to the increase in the number of entities potentially affected and an increase in the number of information collection activities. The change reflects the number of submissions received under TSCA sections 5 and 6. EPA's burden estimates for this collection are based upon historical information on the number of chemicals per premanufacture notices (PMNs), significant new use notifications (SNUNs), microbial commercial activity notices (MCANs), and exemption notices and applications including low-volume exemptions (LVEs), test-marketing exemptions (TMEs), low exposure/low release exemptions (LoREXs), TSCA experimental release applications (TERAs), certain new microorganism (Tier II) exemptions, and film article exemptions., and actions under TSCA section 6. This change is an adjustment.

Courtney Kerwin,
Director, Regulatory Support Division.

[FR Doc. 2021-23025 Filed 10-21-21; 8:45 am]

BILLING CODE 6560-50-P